DEPARTMENT OF COMMERCE

National Oceanic and Atmospheric Administration

Notice of Matching Fund Opportunity for Ocean and Coastal Mapping and Request for Partnership Proposals

AGENCY: National Oceanic and Atmospheric Administration (NOAA), Department of Commerce.

ACTION: Announcement of matching fund program opportunity, request for proposals, and request for interest by September 30, 2022.

SUMMARY: By establishing selection criteria and requirements for the NOAA Rear Admiral Richard T. Brennan Ocean Mapping Matching Fund program, to be known as the Brennan Matching Fund, this notice invites non-Federal entities to partner with NOAA National Ocean Service's ocean and coastal mapping programs on jointly funded projects of mutual interest. NOAA would receive and match partner funds and rely on its existing contract arrangements to conduct the surveying and mapping activities in FY2024. Proposers benefit from this opportunity by leveraging NOAA's contracting expertise, including its pool of pre-qualified technical experts in surveying and mapping as well as data management to ensure that the mapping data are fit for purpose and are usable for a broad set of purposes. This program is subject to funding availability.

DATES: Proposals, including any optional GIS files of the proposed project areas, must be received via email by 5 p.m. ET on September 30, 2022. If an entity is unable to apply for this particular opportunity, but has an interest in participating in similar, future opportunities, NOAA requests a one-page statement of interest, also by September 30, 2022, to help gauge whether to offer the Brennan Matching Fund program in future years.

ADDRESSES: Proposals must be submitted via email to iwgocm.staff@noaa.gov.

FOR FURTHER INFORMATION CONTACT: Requests for additional information should be directed to Meredith Westington or Paul Turner, NOAA Integrated Ocean and Coastal Mapping, at iwgocm.staff@noaa.gov, or (505) 278-9851 and (302) 648-7612, respectively.

SUPPLEMENTARY INFORMATION:

I. Background

NOAA's Office of Coast Survey (OCS) and National Geodetic Survey (NGS) are responsible for conducting hydrographic surveys and coastal mapping for safe navigation, the conservation and management of coastal and ocean resources, and emergency response. NOAA is committed to meeting these missions as collaboratively as possible, adhering to the Integrated Ocean and Coastal Mapping (IOCM) principle of “Map Once, Use Many Times.”

One of IOCM's strongest advocates, Rear Admiral Richard T. Brennan, developed an Ocean Mapping Plan for OCS in which IOCM plays a large role. Responsive to the June 2020 publications of the National Strategy for Mapping, Exploring, and Characterizing the U.S. Exclusive Economic Zone (NOMEC) and the Alaska Coastal Mapping Strategy (ACMS), the Coast Survey Ocean Mapping Plan includes a goal to map the full extent of waters subject to U.S. jurisdiction to modern standards (all three plans are available at https://iocm.noaa.gov/about/strategic-plans.html). Although we lost RDML Brennan tragically and unexpectedly in May 2021, we continue to implement his vision and passion for collaborative ocean mapping through this and other avenues.

The Coast Survey Ocean Mapping Plan describes a number of motivating forces for surveying and mapping waters subject to U.S. jurisdiction, including, but not limited to:

• Safe marine transportation;

• Coastal community resilience;

• A need to better understand the influence of the ocean's composition on related physical and ecosystem processes that affect climate, weather, and coastal and marine resources and infrastructure;

• Interest in capitalizing on the Blue Economy in growth areas like seafood production, tourism and recreation, marine transportation, and ocean exploration;

• The national prerogative to exercise U.S. sovereign rights to explore, manage, and conserve natural resources in waters subject to U.S. jurisdiction; and

• International commitments to map the global oceans by 2030.

Knowledge of the depth, shape, and composition of the seafloor has far-reaching benefits, including safer navigation, hazard mitigation for coastal resilience, preservation of marine habitats and heritage, and a deeper understanding of natural resources for sustainable ocean economies. However, the resources needed to fully achieve the goal of comprehensively mapping U.S. oceans and coasts currently exceed NOAA's capacity. Mapping the full extent of waters subject to U.S. jurisdiction means relying on partners to contribute to the effort.

Coast Survey has considerable hydrographic expertise, including cutting edge understanding of the science and related acoustic systems as well as data standards to ensure broad usability of that data. More detail on Coast Survey's surveying expertise and capabilities is available in the NOAA Coast Survey Ocean Mapping Capabilities report (https://nauticalcharts.noaa.gov/about/docs/about/ocean-mapping-capabilities.pdf). Information on the Hydrographic Services Contract Vehicle and the types of data and services available can be found at https://www.nauticalcharts.noaa.gov/data/hydrographic-surveys-contract-vehicle.html.

The NOAA Coastal Mapping Program under NGS, responsible for updating the shoreline and nearshore bathymetry for application to NOAA Nautical Charts and other coastal applications, relies in part on its NGS Shoreline Mapping Services contract. This contract also supports additional NGS geodetic and surveying missions in support of the National Spatial Reference System and the Aeronautical Survey Program (more information at https://geodesy.noaa.gov/ContractingOpportunities/).

II. Description

This notice announces the Brennan Matching Fund, a program to match funds with NOAA for ocean and coastal survey and mapping partnerships using NOAA's geospatial contracting vehicles. NOAA will select proposals using the review process and criteria evaluation described in section IX of this notice.

The goal of this program is to leverage NOAA and non-Federal partner funds to acquire more ocean and coastal mapping data collected by qualified contract surveyors during FY 2024. If appropriated funds are available, NOAA will provide up to 70 percent of the total project cost, with the selected entity providing at least 30 percent of the total project cost. For example, if a project costs $1,000,000, the selected entity must provide at least $300,000 and NOAA would provide up to $700,000. Additional funding for a project exceeding $1 million may be provided at NOAA's discretion, e.g., if the project aligns with a larger NOAA survey priority. NOAA will receive partner funds through memoranda of agreement using the authority granted to NOAA under the Coast and Geodetic Survey Act of 1947 to receive and expend funds for collaborative hydrographic surveys (33 U.S.C. 883e).

In addition to matching partner funds, NOAA offers its expertise to manage survey planning, quality-assure all data and products, provide the data and products to the partners on an agreed-upon timeframe, and handle data submission to the National Centers for Environmental Information for archiving and public accessibility. All ocean and coastal data and related products resulting from this program will be available to the public to the greatest extent allowed by applicable laws.

Specific value-added services NOAA will provide include:

• Assurance that the data are collected by qualified survey contractors to ensure broadest use and accessibility of the data;

• Project management and GIS-based task order planning, negotiation and award of necessary procurement contracts:

○ Tailored to meet the interests of matching fund partners

○ Managed on aerial, shipboard, and uncrewed vehicles;

• Managing survey compliance with applicable laws, such as the National Environmental Policy Act and National Historic Preservation Act;

• Data processing, quality assessment and review of all acquired hydrographic data; and

• Data management and stewardship through data archive at the National Centers for Environmental Information.

Data acquisition collection methods include, but are not limited to:

• Multibeam Echosounder

• Side Scan Sonar

• Lidar (topographic, bathymetric, mobile)

• Subsurface and airborne feature investigations

• Sediment sampling

Products acquired may include, but are not limited to:

• Bathymetric data (multibeam, single beam, lidar)

• Backscatter

• Water column (depth dependent)

• Side scan sonar imagery

• Feature detection reports

• Sensor/data corrections and calibrations (e.g., conductivity, temperature and depth casts, horizontal/vertical position uncertainty)

• Survey and control services, including the installation, operation, and removal of water level and Global Positioning System stations

• High-resolution topographic/bathymetric product generation

• A final project report

More information on Coast Survey's Hydrographic Surveys Specifications and Deliverables publication can be found at https://nauticalcharts.noaa.gov/publications/docs/standards-and-requirements/specs/HSSD_2022.pdf. More information on NGS Specifications and Deliverables can be found at https://geodesy.noaa.gov/ContractingOpportunities/cmp-sow-v15.pdf. These specifications are based in part on the International Hydrographic Organization's Standards for Hydrographic Surveys, Special Publication 44 (https://iho.int/uploads/user/pubs/standards/s-44/S-44_Edition_6.0.0_EN.pdf). Background information, questions and answers, and slides that potential applicants might find useful from the expired FY 2023 matching fund program webinar are available at https://iocm.noaa.gov/planning/contracts-grants-agreements.html. Interested applicants may also contact NOAA by email at iwgocm.staff@noaa.gov for a rough order of magnitude cost estimation sheet to use in estimating acquisition costs for the matching program.

If an entity is unable to apply for this particular opportunity but has an interest in participating in similar, future opportunities, NOAA requests a one-page statement of interest by September 30, 2022, to use in evaluating whether to offer the Brennan Matching Fund program in future years.

III. Areas of Focus

For this opportunity, proposals will be considered that align with national priorities for climate and infrastructure, and the goals of the NOMEC, ACMS, the Coast Survey Ocean Mapping Plan (all available at https://iocm.noaa.gov/about/strategic-plans.html). Those goals include:

1. Map the United States Exclusive Economic Zone (EEZ):The goal is to completely map deep waters (> 40m) of the United States EEZ by 2030 and shallower waters by 2040. Completing this goal will give the United States unprecedented and detailed information about the depth, shape, and composition of the seafloor of the United States EEZ (NOMEC Goal 2).

2. Expand Alaska Coastal Data Collection to Deliver the Priority Geospatial Products Stakeholders Require: Mapping the Alaska coast is challenging. However, using targeted and coordinated data collections will potentially reduce overall costs and improve the cost-to-benefit ratio of expanded mapping activities (ACMS Goal 2).

3. Map the full extent of waters subject to U.S. jurisdiction to modern standards: Based on the January 2022 analysis of data holdings at NOAA's National Centers for Environmental Information, 52 percent of waters subject to U.S. jurisdiction are unmapped (https://iocm.noaa.gov/seabed-2030-status.html). Acquiring the best available data in poorly surveyed and gap areas means working with partners to contribute to the effort. By sharing its mapping expertise with others, Coast Survey can build depth in the ocean and coastal mapping community to increase the quantity and quality of seafloor data acquired overall (Ocean Mapping Plan Goal 2).

IV. Proposal Eligibility

This matching fund opportunity is available to non-Federal entities. Examples of non-Federal entities include state and local governments, tribal entities, universities, researchers and academia, the private sector, non-governmental organizations (NGOs), and philanthropic partners. Qualifying proposals must demonstrate the ability to provide at least 30 percent of the funds needed for the proposed project, which must be transferred to NOAA by September 2023 using a memorandum of agreement. A coalition of non-Federal entities may assemble funds for the match and submit a proposal jointly. Use of other Federal agency funds as part of the non-Federal entities' match funds will be considered on a case-by-case basis and only as authorized by applicable laws. In-kind contributions are welcome to strengthen the proposal, but do not count toward the match and are not required.

V. Deadlines and Process Dates

All submissions, including the proposal in PDF format and any accompanying GIS files, must be emailed to iwgocm.staff@noaa.gov. Partner proposals are due by 5 p.m. ET on September 30, 2022 (see Section VIII. for details). Please include all required components of the proposal in one email. Incomplete and late submissions will not be considered.

• June 28, 2022: Informational Webinar at 2 p.m. ET; register at https://attendee.gotowebinar.com/register/5547610530319292942.

• September 14, 2022: Office hours opportunity for interested parties to validate their proposals with experts before submitting; register by emailing iwgocm.staff@noaa.gov.

• September 30, 2022: Due date for proposals and statements of interest.

• November 1, 2022: NOAA issues its decisions on proposals (subject to the availability of appropriations).

• November 2022-January 2023: NOAA works with selected partners to develop memoranda of agreement to facilitate the transfer of funds from the non-Federal partner to NOAA.

• February 2023: NOAA finalizes the memoranda of agreement with partners.

• June-September 2023: Non-Federal partners transfer matching funds to NOAA; funds must be available to NOAA for contracting in October 2023.

• January-September 2024: NOAA issues task orders to its survey contractors for NOAA/partner projects in FY 2024.

VI. Funding Availability

In the third year of this program, NOAA anticipates funding between two to five survey projects up to 70 percent, with a total cost of $1,000,000 per project. Additional funding for a project exceeding $1 million may be provided at NOAA's discretion. All projects are expected to have a FY 2024 project start date and NOAA must receive all non-Federal partner matching funds no later than September 2023. NOAA reserves the right to increase or decrease its funding match based on the quality and feasibility of proposals received. This notice is subject to the availability of appropriations.

VII. Project Period

NOAA intends to complete each selected project within two (2) years. However, the period to complete a project may be extended in coordination with the partner(s), if additional time is needed. NOAA will submit a final report to the non-Federal partner within 60 days of the conclusion of each project.

VIII. Submission Requirements

Project Proposal—To qualify, a proposal shall not exceed six (6) total pages and must include the following three components:

1. A project title; executive summary (3-5 sentences); and the names, affiliations, and roles of the project partners and any co-investigators, as well as the project lead that will serve as primary contact (1 page maximum).

2. A justification and statement of need; description and graphics of the proposed survey area, including relevance to the strategic areas of focus noted in Section III and degree of flexibility on timing of survey effort (4 pages maximum).

3. A project budget that lists the source(s) and amount(s) of funding that the partner would provide as its match to NOAA. Budget must confirm that partner funds can be transferred to NOAA by September 2023 (1 page maximum).

Proposals, as PDF format, must use 12-point, Times New Roman font, single spacing, and 1-inch margins. Failure to adhere to these requirements will result in the proposal being returned without review and eliminated from further consideration.

To facilitate a more detailed review of the second component of the proposal, NOAA welcomes the submission of GIS files of project areas. These ancillary GIS files must be in SHP format.

IX. Review Process and Evaluation Criteria

Proposals will be evaluated by the Brennan Matching Fund Program Management Team. Submissions will be ranked based on the following criteria:

1. Project justification (30 points)—This criterion ascertains whether there is intrinsic IOCM value in the proposed work and/or relevance to NOAA missions and priorities, including downstream partner proposals and uses. Use of, and reference to, national priorities on climate and infrastructure, NOMEC, ACMS and the Coast Survey Ocean Mapping Plan (all available at https://iocm.noaa.gov/about/strategic-plans.html); gap assessment tools such as the U.S. Bathymetry Gap Analysis (https://iocm.noaa.gov/seabed-2030-bathymetry.html); and the U.S. Interagency Elevation Inventory (https://catalog.data.gov/dataset/united-states-interagency-elevation-inventory-usiei), among others, are recommended. The U.S. Mapping Coordination site (fedmap.seasketch.org) shows current Coast Survey and NGS mapping plans as well as the latest in Federal mapping priorities and select regional mapping priorities; email iwgocm.staff@noaa.gov for assistance with the layers on this site, if needed.

2. Statement of need (10 points)—This criterion assesses clarity of project need, partner project funding alternatives if not selected, anticipated outcomes and public benefit.

3. Specified partner match (20 points)—The proposal identifies a point of contact for the entity submitting the proposal, as well as any partnering entities, a clear statement on partner matching funds provenance (e.g., state appropriations, NGO funds, or other sources) and timing of funds availability. In-kind contributions are welcome to strengthen the proposal, but do not count toward the funding match and are not required.

4. Project costs (15 points)—This criterion evaluates whether the proposed budget is realistic and commensurate with the proposed project needs and timeframe. If needed, please contact iwgocm.staff@noaa.gov for a rough estimate of cost per square nautical mile for surveys in a particular region.

5. Project feasibility and flexibility (25 points)—This criterion assesses the likelihood that the proposal would succeed, using evaluations of survey conditions, project size, location, weather, NOAA analysis of environmental compliance implications, project flexibility and adaptability to existing NOAA plans and schedules, and other factors.

During the proposal review period, NOAA reserves the right to engage with proposal points of contact to ask questions and provide feedback on project costs and feasibility.

X. Management and Oversight

Once selections are made, NOAA will coordinate the development of the memoranda of agreement, funding transfers, project planning, environmental compliance, acquisition awards and quality assurance process. NOAA may bring in additional partners and/or funding (Federal and/or non-Federal) to expand a project further, if feasible. Projects will be reviewed by NOAA on an annual basis to ensure they are responsive to partner interests and NOAA mission requirements, and to identify opportunities for outreach and education on the societal benefits of the work.

Authority: Coast and Geodetic Survey Act of 1947 (33 U.S.C. 883e).

RDML Benjamin K. Evans,
Director, Office of Coast Survey, National Ocean Service, National Oceanic and Atmospheric Administration.

[FR Doc. 2022-12513 Filed 6-9-22; 8:45 am]

BILLING CODE 3510-JE-P